NATIONAL AERONAUTICS AND SPACE ADMINISTRATION

[05-084]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA; Office of Information and Regulatory Affairs; Office of Management and Budget; Room 10236; New Executive Office Building; Washington, DC 20503.

FOR FURTHER INFORMATION CONTACT: Requests for additional information or copies of the information collection instrument(s) and instructions should be directed to Ms. Kathleen Shaeffer, Acting NASA Reports Officer, NASA Headquarters, 300 E Street, SW., Mail Suite 6M70, Washington, DC 20546, (202) 358-1230, kathleen.shaeffer-1@nasa.gov.

SUPPLEMENTARY INFORMATION:

I. Abstract

The National Aeronautics and Space Administration (NASA) is requesting renewal of an existing collection to enable monitoring of contracts valued at less than $500K. Collection is prescribed in the NASA Federal Acquisition Regulation Supplement and approved mission statements.

There are multiple uses of this information by NASA procurement and technical personnel in the management of contracts (e.g., evaluate contractor management systems, ensure compliance with mandatory public policy provisions, evaluate and control costs charged against contracts, detect and minimize conditions conducive to fraud, waste, and abuse, and form a database for reports to Congress and the Executive Branch). Without this information, NASA would not be able to effectively manage and control contractor efforts to furnish goods and services in support of NASA's mission.

II. Method of Collection

NASA utilized paper and electronic methods to collect information from collection respondents.

III. Data

Title: NASA Acquisition Process—Reports Required Under Contracts With a Value of Less Than $500K.

OMB Number: 2700-0088.

Type of Review: Extension of currently approved collection.

Affected Public: Business or other for-profit; not-for-profit institutions; State, local or tribal government.

Estimated Number of Respondents: 956.

Estimated Time Per Response: Approximately 20 hours.

Estimated Total Annual Burden Hours: 803,040.

Estimated Total Annual Cost: 0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Dated: April 26, 2005.
Patricia L. Dunnington,
Chief Information Officer.

[FR Doc. 05-8994 Filed 5-4-05; 8:45 am]

BILLING CODE 7510-13-P